DEPARTMENT OF HOUSING AND URBAN DEVELOPMENT

[Docket No. FR-7036-N-08]

60-Day Notice of Proposed Information Collection: Community Development Block Grant Entitlement Program; OMB Control No: 2506-0077

AGENCY: Office of Community Planning and Development, HUD.

ACTION: Notice.

SUMMARY: The proposed information collection requirement described below will be submitted to the Office of Management and Budget (OMB) for review as required by the Paperwork Reduction Act. The Department is soliciting public comments on the subject proposal.

DATES: Comments Due Date: October 18, 2021.

ADDRESSES: Interested persons are invited to submit comments regarding this proposal. Comments should refer to the proposal by name and/or OMB Control Number and should be sent to: Anna Guido, Reports Management Officer, QDAM, Department of Housing and Urban Development, 451 7th Street SW, Room 4176, Washington, DC 20410-5000; telephone 202-402-5535 (this is not a toll-free number) or email at Anna.P.Guido@hud.gov for a copy of the proposed forms or other available information. Persons with hearing or speech impairments may access this number through TTY by calling the toll-free Federal Relay Service at (800) 877-8339.

FOR FURTHER INFORMATION CONTACT: Gloria Coates, Senior Community Planning and Development Specialist, Entitlement Communities Division, Office of Block Grant Assistance, 451 7th Street SW, Room 7282, Washington, DC 20410; This is not a toll-free number. Persons with hearing or speech impairments may access this number through TTY by calling the toll-free Federal Relay Service at (800) 877-8339.

SUPPLEMENTARY INFORMATION: This notice informs the public that HUD is seeking approval from OMB for the information collection described in Section A.

A. Overview of Information Collection

Title of Information Collection: Community Development Block Grant Entitlement Program.

OMB Approval Number: 2506-0077.

Type of Request: Revision of a currently approved collection.

Form Number: Not applicable.

Description of the need for the information and proposed use: This request identifies the estimated reporting burden associated with information that CDBG entitlement grantees will report in IDIS for CDBG-assisted activities, recordkeeping requirements, and reporting requirements. Grantees are encouraged to update their accomplishments in IDIS on a quarterly basis. In addition, grantees are required to retain records necessary to document compliance with statutory and regulatory requirements, Executive Orders, 2 CFR part 200 requirements, and determinations required to be made by grantees as a determination of eligibility. Grantees are required to prepare and submit their Consolidated Annual Performance and Evaluation Reports, which demonstrate the progress grantees make in carrying out CDBG-assisted activities listed in their consolidated plans. This report is due to HUD 90 days after the end of the grantee's program year. The information required for any particular activity is generally based on the eligibility of the activity and which of the three national objectives (benefit low- and moderate-income persons; eliminate/prevent slums or blight; or meet an urgent need) the grantee has determined that the activity will address.

Respondents: Grant recipients (metropolitan cities and urban counties) participating in the CDBG Entitlement Program.

Estimation number of Respondents: 1,227.

Estimation Number of Responses: The proposed frequency of the response to the collection is on an annual basis.

Frequency of Response: Annually.

Total Estimated Burdens: The total estimated burden is 574,236.

Task | Number of respondents | Frequency of response | Responses per annum | Burden hour per response | Annual burden hours | Hourly cost per response | Annual cost
Current Inventory: Recordkeeping pursuant to 24 CFR 570.506 | 1,227.00 | 1.00 | 1,227.00 | 129.00 | 158,283.00 | 35.16 | $5,565,230.28
Reporting pursuant to 24 CFR 570.507, 24 CFR 570.200 (e) and 570.506(c) | 1,227.00 | 4 | 4,908.00 | 78.50 | 385,278.00 | 35.16 | 13,546,374.50
Entitlement communities maintain required documentation | 1,227.00 | 1.00 | 1,227.00 | 25.00 | 30,675.00 | 35.16 | 1,078,533.00
| 1,227.00 |  |  |  | 574,236.00 |  | 20,190,137.80
Total |  |  |  |  |  |  |

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: The Paperwork Reduction Act of 1995, 44 U.S.C. Chapter 35, as amended.

Principal Deputy Assistant Secretary for Community Planning and Development, James Arthur Jemison II, having reviewed and approved this document, is delegating the authority to electronically sign this document to submitter, Aaron Santa Anna, who is the Federal Register Liaison for HUD, for purposes of publication in the Federal Register.

Aaron Santa Anna,
Federal Register Liaison for the Department of Housing and Urban Development.

[FR Doc. 2021-17666 Filed 8-17-21; 8:45 am]

BILLING CODE 4210-67-P